FEDERAL COMMUNICATIONS COMMISSION

47 CFR Part 27

[WT Docket No. 04-356; WT Docket No. 02-353; FCC 04-218]

Service Rules for Advanced Wireless Services in the 1915-1920 MHz, 1995-2000 MHz, 2175-2180 MHz and 1.7 GHz and 2.1 GHz Bands

AGENCY: Federal Communications Commission.

ACTION: Proposed rule; extension of comment period.

SUMMARY: In this document, the Wireless Telecommunications Bureau extends the period for comment and reply comment on the Notice of Proposed Rulemaking in this proceeding. The deadline to file comments is extended from November 23, 2004, to December 8, 2004, and the deadline to file reply comments is extended from January 7, 2005, to January 24, 2005. The action is taken to respond to two Motions for Extension of Time.

DATES: Comments due December 8, 2004; reply comments due January 24, 2005. Written comments on the Paperwork Reduction Act proposed information collection requirements must be submitted by the public, Office of Management and Budget (OMB), and other interested parties on or before December 8, 2004.

ADDRESSES: In addition to filing comments with the Secretary, a copy of any comments on the Paperwork Reduction Act information collection requirements contained herein should be submitted to Judith B. Herman, Federal Communications Commission, Room 1-C804, 445 12th Street, SW., Washington, DC 20554, or via the Internet to Judith-B.Herman@fcc.gov, and to Kristy L. LaLonde, OMB Desk Officer, Room 10234 NEOB, 725 17th Street, NW., Washington, DC 20503 via the Internet to Kristy_L.LaLonde@omb.eop.gov, or via fax at 202-395-5167.

FOR FURTHER INFORMATION CONTACT: Peter Corea at 202-418-2487. For additional information concerning the Paperwork Reduction Act information collection requirements contained in this document, contact Judith B. Herman at 202-418-0214, or via Internet at Judith-B.Herman@fcc.gov.

SUPPLEMENTARY INFORMATION: This proposed rulemaking, 69 FR 63489, November 2, 2004, concerns a decision to provide additional twenty megahertz of spectrum that can be used to offer a variety of broadband and advanced wireless services (AWS), potentially including “third generation” (3G) wireless services, the Commission ask for public comment on licensing, technical, and operational rules to govern the use of the 1915-1920 MHz, 1995-2000 MHz, and 2020-2025 MHz and 2175-2180 MHz bands designated for AWS. The Commission announced its desire to provide licensees of this spectrum with flexibility to provide any fixed or mobile service consistent with the technical parameters of allocation.

Federal Communications Commission.
Marlene H. Dortch,
Secretary.

[FR Doc. 04-26384 Filed 11-29-04; 8:45 am]

BILLING CODE 6712-01-P